DEPARTMENT OF COMMERCE

National Oceanic and Atmospheric Administration

[I.D. 121503C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on January 12-15, 2004.

ADDRESSES: These meetings will be held at the Omni Austin Hotel Downtown, 700 San Jacinto at 8th Street, Austin, TX; telephone: 512-476-3700.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

January 14, 2004

8:30 a.m.--Convene.

8:45 a.m. - 3:30 p.m.--Receive public testimony on the Cooperative Texas Shrimp

Closure, Secretarial Reef Fish Amendment 1, and Draft Reef Fish amendment 22 (Red Snapper Rebuilding Plan).

3:30 p.m. - 5 p.m.--Receive the Reef Fish Management Committee report.

5 p.m. - 5:30 p.m.--(Closed Session) Receive the report of the Joint Personnel/Administrative Policy Committee.

January 15, 2004

8:30 a.m. - 9 a.m.--Receive the Habitat Protection Committee report.

9 a.m. - 9:15 a.m.--Receive the Shrimp Management Committee report.

9:15 a.m. - 9:45 a.m.--Receive the Mackerel Management Committee report.

9:45 a.m. - 10 a.m.--Receive the Joint Reef Fish/Mackerel/Red Drum Management Committee report.

10 a.m. - 10:15 a.m.--Receive the Joint Reef Fish/Mackerel Management Committee Report.

10:15 a.m. - 10:30 a.m.--Receive the Red Drum Management Committee report.

10:30 a.m. - 10:45 a.m.--Receive the Joint Personnel/Administrative Policy Committee report.

10:45 a.m. - 11 a.m.--Receive the Law Enforcement Committee report.

11 a.m. - 11:15 a.m.--Receive the South Atlantic Fishery Management Council (SAFMC) Liaison Report.

11:15 a.m. - 11:30 a.m.--Receive a report on the Gulf Safety Committee.

11:30 a.m. - 11:45 a.m.--Receive a report on the Joint Council meeting.

11:45 a.m. - 12 noon--Receive Enforcement Reports.

12 noon - 12:15 p.m.--Receive the NMFS Regional Administrator's Report.

12:15 p.m. - 12:30 p.m.--Receive Director's Reports.

12:30 p.m. - 12:45 p.m.--Other Business

Committees

January 12, 2004

8:30 a.m. - 9:30 a.m.--Convene a joint meeting of the Personnel and Administrative Policy Committees to consider contracting a court reporter and to discuss personnel issues.

9:30 a.m. - 11:30 a.m.--Convene the Joint Reef Fish/Mackerel/Red Drum Management committees to review and approve the Aquaculture Amendment Scoping Document, select scoping hearing sites, and receive a presentation on a cage culture study.

1 p.m. - 5:30 p.m.--Convene the Reef Fish Management Committee to review the Vermilion Snapper Draft Amendment 23 that contains alternatives for arresting overfishing of that stock by commercial and recreational fishermen. The committee will also review and take final action on the Secretarial Reef Fish Amendment 1 that contains alternatives for arresting overfishing of red grouper by the commercial and recreational fishermen; as well as review and take final action on the Draft Reef Fish Amendment 22 that contains alternatives for a red snapper rebuilding plan. The species groupings for status determination criteria will also be discussed. The Committee will also review the Proposed Rule for Reef Fish Amendment 21 and address their intent on the definition of surface trolling. The Committee will address their intent on Reef Fish Amendment 21's definition of surface trolling. The Committee will develop recommendations for consideration by full Council on Wednesday afternoon.

January 13, 2004

8:30 a.m. - 9:30 a.m.--Convene the Shrimp Management Committee to review Draft Shrimp Amendment 13/EA that includes alternatives for status criteria and benchmarks as well as a revised standardized bycatch reporting methodology. The Committee will also review Texas Closure analyses.

9:30 a.m. - 10:30 a.m.--Convene the Red Drum Management Committee to hear the issue of shipping of stock across the EEZ and to discuss overfishing of the stock.

10:30 a.m. - 12 noon--Convene the Mackerel Management Committee to review the Options Paper for Amendment 15, discuss trip limit revisions, and select scoping meeting sites.

1:30 p.m. - 2:30 p.m.--Convene the Joint Reef Fish/Mackerel Committees will meet to review a scoping document for joint reef fish/mackerel limited access program and select sites for scoping hearings.

2:30 p.m. to 3 p.m.--Convene the Law Enforcement Committee to review the issue of criminal penalties under the Magnuson-Stevens Fishery Conservation and Management Act (MSFCMA)

3 p.m. to 5:30 p.m.--Convene the Habitat Protection Committee to review the comments/response section of the Environmental Impact Statement (EIS) for the Generic Essential Fish Habitat (EFH) Amendment; and to hear comments from the Texas Habitat Protection Advisory Panel meeting.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by January 5, 2004.

Dated: December 16, 2003.
Richard W. Surdi,
Acting Director, Office of Sustainable Fisheries, National Marine Fisheries Service.

[FR Doc. E3-00600 Filed 12-19-03; 8:45 am]

BILLING CODE 3510-22-S